DEPARTMENT OF HOMELAND SECURITY

Coast Guard

33 CFR Part 165

[Docket No. USCG-2016-0304]

Security Zone; Portland Rose Festival on Willamette River

AGENCY: Coast Guard, DHS.

ACTION: Notice of enforcement of regulation.

SUMMARY: The Coast Guard will enforce the security zone for the Portland Rose Festival on the Willamette River in Portland, OR from 11 a.m. on June 9, 2016, through noon on June 13, 2016. This action is necessary to ensure the security of vessels participating in the 2016 Portland Rose Festival on the Willamette River during the event. Our regulation for the Security Zone Portland Rose Festival on Willamette River identifies the regulated area. During the enforcement period, no person or vessel may enter or remain in the security zone without permission from the Sector Columbia River Captain of the Port.

DATES: The regulations in 33 CFR 165.1312 will be enforced from 11 a.m. on June 9, 2016, through noon on June 13, 2016.

FOR FURTHER INFORMATION CONTACT: If you have questions about this notice of enforcement, call or email Mr. Kenneth Lawrenson, Waterways Management Division, MSU Portland, Oregon, U.S. Coast Guard; telephone 503-240-9319, email MSUPDXWWM@uscg.mil.

SUPPLEMENTARY INFORMATION: The Coast Guard will enforce the security zone for the Portland Rose Festival detailed in 33 CFR 165.1312 from 11 a.m. on June 9, 2016, through noon on June 13, 2016. This action is necessary to ensure the security of vessels participating in the 2016 Portland Rose Festival on the Willamette River during the event. Under the provisions of 33 CFR 165.1312 and 33 CFR 165 subpart D, no person or vessel may enter or remain in the security zone, consisting of all waters of the Willamette River, from surface to bottom, encompassed by the Hawthorne and Steel Bridges, without permission from the Sector Columbia River Captain of the Port. Persons or vessels wishing to enter the security zone may request permission to do so from the on scene Captain of the Port representative via VHF Channel 16 or 13. The Coast Guard may be assisted by other Federal, State, or local enforcement agencies in enforcing this regulation.

This notice of enforcement is issued under authority 33 CFR 165.1312 and 5 U.S.C. 552 (a). In addition to this notice of enforcement in the Federal Register, the Coast Guard plans to provide notification of this enforcement period via the Local Notice to Mariners and marine information broadcasts.

Dated: April 12, 2016.
D. F. Berliner,
Captain, U.S. Coast Guard, Acting Captain of the Port, Sector Columbia River.

[FR Doc. 2016-11231 Filed 5-11-16; 8:45 am]

BILLING CODE 9110-04-P